DEPARTMENT OF JUSTICE

Office of Justice Programs

[OJP (NIJ) Docket No. 1657]

Draft Report and Recommendations Prepared by the Scientific Working Group on Digital Evidence (SWGDE)

AGENCY: National Institute of Justice, DOJ.

ACTION: Notice and request for comments.

SUMMARY: In an effort to obtain comments from interested parties, the U.S. Department of Justice, Office of Justice Programs, National Institute of Justice, Scientific Working Group on Digital Evidence will make available to the general public the following three draft documents: (1) “Digital Forensics as a Forensic Science Discipline;” (2) “SWGDE Best Practices for Examining Magnetic Card Readers;” and (3) “SWGDE Best Practices for Forensic Audio.” The opportunity to provide comments on this document is open to law enforcement agencies, organizations, and all other stakeholders and interested parties. Those wishing to obtain and provide comments on the draft document under consideration are directed to the following Web site: http://www.swgde.org.

DATES: Comments must be received on or before May 30, 2014.

FOR FURTHER INFORMATION CONTACT: Patricia Kashtan, by telephone at 202-353-1856 [Note: this is not a toll-free telephone number], or by email at Patricia.Kashtan@usdoj.gov.

Greg Ridgeway,
Acting Director, National Institute of Justice.

[FR Doc. 2014-10376 Filed 5-6-14; 8:45 am]

BILLING CODE 4410-18-P